DEPARTMENT OF TRANSPORTATION

Federal Aviation Administration

14 CFR Part 3

[Docket No.: FAA-2023-1194; Amendment No. 3-3]

RIN 2120-AL85

U.S. Agents for Service on Individuals With Foreign Addresses Who Hold or Apply for Certain Certificates, Ratings, or Authorizations

AGENCY: Federal Aviation Administration (FAA), Department of Transportation (DOT).

ACTION: Final rule.

SUMMARY: The FAA will require individuals with foreign addresses, and no U.S. physical address of record on file with the FAA, who hold or apply for certain certificates, ratings, or authorizations to designate a U.S. agent for service of FAA documents. The U.S. agent will receive service of FAA documents on the certificate holder or applicant's behalf. This rule facilitates the FAA's ability to accomplish prompt and cost-effective service of process and service of other safety-critical or time-sensitive documents to individuals abroad through service on their U.S. agents.

DATES:

Effective dates: Amendatory instructions 1 (part 3) and 2 (subpart C of part 3) are effective October 8, 2024, amendatory instruction 3 (§ 3.303(d) and (e)) is effective January 6, 2025, and amendatory instruction 4 (§ 3.303(d)) is effective July 7, 2025.

Compliance dates: The compliance dates for this final rule are as follows: January 6, 2025, for applicants of any certificate, rating, or authorization issued under part 47, 61, 63, 65, 67, or 107, and July 7, 2025 for holders of any certificate, rating, or authorization issued under part 47, 61, 63, 65, 67, or 107.

ADDRESSES: For information on where to obtain copies of rulemaking documents and other information related to this final rule, see “How to Obtain Additional Information” in the SUPPLEMENTARY INFORMATION section of this document.

FOR FURTHER INFORMATION CONTACT: Jessica Kabaz-Gomez, Office of the Chief Counsel, Enforcement Division, AGC-300, Federal Aviation Administration, 800 Independence Avenue SW, Washington, DC 20591; (202) 267-7395; email Jessica.Kabaz-Gomez@faa.gov.

SUPPLEMENTARY INFORMATION:

Table of Contents

I. Executive Summary

A. Overview of Final Rule

B. Summary of the Costs and Benefits

II. Authority for This Rulemaking

III. Background

A. Statement of the Problem

B. Summary of the NRPM

C. General Overview of Comments

IV. Discussion of Comments and the Final Rule

A. Request for Use of the Defined Term “U.S. agent address”

B. Request for Exception From the U.S. Agent for Service Requirement for U.S. Government Employees, Military Members, and Special Purpose Pilot Authorization (SPPA) Holders

C. Request for Pilots To Have Alternatives to a U.S. Agent for Service Such as Email or Voluntary and Temporary Certificate Surrender When Pilots Go Abroad

D. Miscellaneous Issues

V. Regulatory Notices and Analyses

A. Regulatory Impact Analysis

B. Regulatory Flexibility Act

C. International Trade Impact Assessment

D. Unfunded Mandates Assessment

E. Paperwork Reduction Act

F. International Compatibility

G. Environmental Analysis

VI. Executive Order Determinations

A. Executive Order 13132, Federalism

B. Executive Order 13175, Consultation and Coordination With Indian Tribal Governments

C. Executive Order 13211, Regulations That Significantly Affect Energy Supply, Distribution, or Use

D. Executive Order 13609, Promoting International Regulatory Cooperation

VII. Privacy

VIII. Additional Information

A. Electronic Access and Filing

B. Small Business Regulatory Enforcement Fairness Act

I. Executive Summary

A. Overview of Final Rule

This final rule adds subpart C to part 3 of title 14 of the Code of Federal Regulations (14 CFR). Subpart C requires individuals who have a foreign address and no U.S. physical address of record on file with the FAA to designate a U.S. agent for service if they apply for a certificate, rating, or authorization issued under 14 CFR part 47, 61, 63, 65, 67, or 107, or hold a certificate, rating, or authorization issued under any of these parts.¹

¹ See U.S. Agents for Service on Individuals With Foreign Addresses Who Hold or Apply for Certain Certificates, Ratings, or Authorizations, 88 FR 38003 (June 12, 2023). These individuals comprise the majority of individuals holding FAA certificates, ratings, and authorizations abroad and represent those who the agency most commonly serves with process and other safety-critical or time-sensitive documents. Individuals who only hold or apply for FAA certificates, ratings, or authorizations other than those issued under 14 CFR part 47, 61, 63, 65, 67, or 107 are not covered by the rule due to the limited benefit that would be derived by having the rule apply to them.

The U.S. agent will receive service of FAA documents on behalf of the certificate, rating, or authorization holder or applicant. This final rule facilitates the FAA's ability to accomplish prompt and cost-effective service of process and service of other safety-critical or time-sensitive documents to individuals abroad through service on their U.S. agents.² This will conserve agency resources, ensure that lengthy delays in service of process do not compromise aviation safety, and provide individuals abroad with timely notice of FAA actions and the opportunity for more expedient due process.

² See U.S. Agents for Service on Individuals With Foreign Addresses Who Hold or Apply for Certain Certificates, Ratings, or Authorizations, 88 FR 38004 (June 12, 2023). Examples of documents that may be served on U.S. agents may include reexamination letters, letters of investigation, Office of Aerospace Medicine letters requesting additional information or denying a medical certificate, and notices to aircraft owners of ineffective or invalid aircraft registration. Additionally, service of process includes the FAA's service of documents that compel compliance, may be time-sensitive or safety-critical, and are subject to administrative or legal review, such as notices of proposed civil penalty or assessment, orders of suspension or revocation, and emergency orders of suspension or revocation.

B. Summary of the Costs and Benefits

Approximately 115,000 individuals outside the U.S. as of July 2022 hold certificates, ratings, or authorizations issued under 14 CFR part 47, 61, 63, 65, 67, or 107 and do not have a U.S. physical address of record on file with the FAA. Service of process abroad imposes burdensome costs on the FAA. This rule will eliminate a majority of the costs of affecting international service and transfer some of these transaction costs back to the individual applicant or certificate holder by requiring designation of a U.S. agent. The costs experienced by these individuals will depend on the arrangements made (e.g., hiring a professional U.S. agent for service of process could cost $50 to $200 annually). Although there may be some initial costs to the FAA to revise its systems to accommodate the change, these costs will be offset by avoiding the foreign service of process costs that include international mailings and foreign translations.

II. Authority for This Rulemaking

The FAA's authority to issue rules on aviation safety, such as the rules governing service that are addressed in this notice, is found in title 49 of the United States Code. Subtitle I, section 106 describes the authority of the FAA Administrator. Subtitle VII, Aviation Programs, describes in more detail the scope of the agency's authority, including the authority to issue regulations.

This rulemaking is issued under the authority described in 49 U.S.C. 44701(a)(5), which establishes the authority of the Administrator to prescribe regulations and minimum standards for other practices, methods, and procedures the Administrator finds necessary for safety in air commerce and national security. These regulations are within the scope of that authority and are consistent with 49 U.S.C. 46103, which governs the FAA's service of notice, process, and actions, and provides that the FAA may effectuate service on an agent.

III. Background

A. Statement of the Problem

Previously, only U.S. air carriers, foreign air carriers and foreign persons operating a U.S.-registered aircraft in common carriage solely outside the United States were required to designate a U.S. agent for service of FAA documents.³ However, individuals across the world can hold and apply for FAA certificates, ratings, and authorizations. As of July 2022, there were approximately 115,000 individuals holding certificates, ratings, or authorizations issued under 14 CFR part 47, 61, 63, 65, 67, or 107 who had a foreign address and did not have a U.S. physical address of record on file with the FAA. Serving certain documents on these individuals outside of the U.S. presented a challenge for the FAA. Accomplishing valid service of process abroad requires compliance with international service requirements under multi-lateral treaties ⁴ or by other means that comport with the receiving country's laws and the U.S.'s applicable laws regulating extraterritorial service.

³ See 49 U.S.C. 46103(a)(1) (requiring air carriers and foreign air carriers to designate an agent) and 14 CFR 119.49 and 129.9 (implementing 46103(a)(1)).

⁴ See for example, the Hague Service Convention, 20 U.S.T. 361 (signed Nov. 15, 1965), the Inter-American Convention on Letters Rogatory (adopted Jan. 30, 1975), and the Additional Protocol to the Convention (IACAP) (adopted May 8, 1979), S. Treaty Doc. No. 98-27 (1986).

The FAA's service of process abroad triggers these international service requirements, specifically when the FAA sends documents abroad that compel compliance and are subject to administrative or judicial review. Such documents may include notices of proposed civil penalties, orders of suspension or revocation, and emergency orders of suspension or revocation. International service requirements can significantly delay service of these documents for months (and in some cases over a year), and also impose additional costs on the agency. Document recipients cannot waive these international service requirements, nor can they be circumvented with electronic service.

B. Summary of the Notice of Proposed Rulemaking (NPRM)

The NPRM was published in the Federal Register on June 12, 2023, and the comment period for the NPRM closed on August 11, 2023.⁵ The comment period was reopened on October 13, 2023, until October 30, 2023, due to a commenter's request to extend the comment period.⁶

⁵ U.S. Agents for Service on Individuals With Foreign Addresses Who Hold or Apply for Certain Certificates, Ratings, or Authorizations, Notice of Proposed Rulemaking, 88 FR 38001 (June 12, 2023).

⁶ 88 FR 70911.

The NPRM proposed adding a new subpart C to part 3 of 14 CFR to require individuals who have a foreign address and no U.S. physical address of record on file with the FAA to designate a U.S. agent for service if they apply for a certificate, rating, or authorization issued under 14 CFR part 47, 61, 63, 65, 67, or 107, or hold a certificate, rating, or authorization issued under any of these parts. A U.S. agent for service was defined as an entity or an adult (18 or older) with a U.S. address who is designated to receive FAA service on their behalf. Accordingly, the NPRM proposed allowing individuals to hire any entity, including registered agent service companies, with a U.S. address to be their designated U.S. agent. Alternatively, it proposed permitting individuals to designate any adult who is 18 or older with a U.S. address, including a relative or associate, to be their U.S. agent. The rule also provided requirements on what type of U.S. address the FAA would accept as sufficient for a U.S. agent.

The NPRM proposed that a U.S. agent would receive service of process, and other time-sensitive or safety-critical documents from the FAA on behalf of the individual certificate, rating, or authorization holder or applicant. The U.S. agent would be responsible for timely transmitting all documents the FAA served on the U.S. agent to the individual who designated them. For this reason, the NPRM proposed the requirement that a U.S. agent be mentally competent to assume this duty. The NPRM also proposed that an individual must ensure their U.S. agent understands the requirements for serving as a U.S. agent and agrees to serve in that capacity. As explained in the NPRM, the responsibility for ensuring these requirements are met would fall on the individual designating the U.S. agent. Individuals designating U.S. agents would be required to certify to the FAA, under penalty of perjury, that a U.S. agent has accepted the responsibility of receiving FAA service on behalf of the individual.

Additionally, the NPRM emphasized that the individual who designates a U.S. agent would be responsible for ensuring that the FAA can serve documents to their U.S. agent. An individual designating a U.S. agent for service would be required to provide the U.S. agent's full name; their U.S. address; their email address, should electronic service be feasible; their fax number (optional); and their phone number (optional), in the event of service issues. Individuals would be required to keep their U.S. agent designation current. Absent extraordinary circumstances, the FAA would consider service on an individual's U.S. agent the equivalent of service directly on the individual, triggering all appeal and reply deadlines provided in the document being served.

The NPRM explained that the rule would facilitate the FAA's ability to accomplish prompt and cost-effective service of process and service of other safety-critical or time-sensitive documents to individuals abroad through service on their U.S. agents. This would conserve agency resources, ensure that lengthy delays in service of process do not compromise aviation safety, and provide individuals abroad with timely notice of FAA actions and the opportunity for more expedient due process.

C. General Overview of Comments

The FAA received a total of 14 comments, two of which were duplicates. All comments were from individual anonymous commenters. Five of the commenters opposed the rule. Three of these commenters suggested changes, as did one additional commenter who neither supported nor opposed the proposed rule. The commenters' suggested changes are discussed more fully in the Discussion of Comments and the Final Rule section. Seven of the comments were outside the scope of the rule.

IV. Discussion of Comments and the Final Rule

A. Request for Use of the Defined Term “U.S. agent address”

A commenter noted that the proposed rule defined the term “U.S. agent address” in proposed § 3.302, the definition section, but the term was not used in the proposed regulation. The FAA agrees and amends proposed § 3.303(b) in the final rule to include the term “U.S. agent address” for clarification. This is a non-substantive change.

B. Request for Exception From the U.S. Agent for Service Requirement for U.S. Government Employees, Military Members, and Special Purpose Pilot Authorization (SPPA) Holders

Two commenters requested full exception from the applicability of the rule for certain certificate holders. Specifically, the commenters suggested that U.S. Government employees, military members, and special purpose pilot authorization (SPPA) holders should be excepted from the rule because the FAA should easily be able to find and contact them through their employers (such as the U.S. Government, military, or private companies). The FAA notes the purpose of the rule is to provide service of documents within the U.S. to designated agents of individuals, including those whose location abroad may already be known, such as U.S. Government employees, military members, and SPPA holders. More importantly, service on an individual's employer that has not been designated as their agent does not satisfy service of process requirements under 49 U.S.C. 46103. The rule, however, does not preclude that individual from designating their employer as their U.S. agent for service if the employer agrees and meets the requirements provided by this rule in 14 CFR part 3, subpart C. Accordingly, the FAA is adopting the rule as proposed, without the requested exceptions.

C. Request for Pilots To Have Alternatives to a U.S. Agent for Service Such as Email or Voluntary and Temporary Certificate Surrender When Pilots Go Abroad

One commenter requested that the FAA consider alternatives to the rule that would only apply to pilots. Specifically, the commenter requested that the FAA consider email service for pilots or allow pilots to temporarily and voluntarily surrender their certificate(s) to the FAA for the time they are abroad. The FAA notes that alternatives to the rule that would only apply to pilots, as the commenter proposed, rather than all the applicable certificate, rating, and authorization holders and applicants impacted by this rule would be unequal because there is not any justification for favoring pilots over other impacted groups. Nevertheless, the FAA considered the proposed alternatives, in case they could be viable options for all individuals impacted by the rule. The FAA determined that neither option is a viable alternative to a U.S. agent.

The NPRM already addressed why email service was not a viable alternative to this rule. Specifically, the NPRM explained that international service conventions do not expressly authorize email service of process abroad, and that email service abroad could violate the domestic law of the receiving state and potentially result in judgments that are unenforceable in foreign courts.⁷ Accordingly, the FAA did not adopt the commenter's proposed email alternative to a U.S. agent.

⁷ While section 219 of the FAA Reauthorization Act of 2024 permits electronic or facsimile transmission by the FAA to the person to be served or the designated agent of that person, the FAA must also comply with international service conventions that currently do not expressly authorize email service of process abroad.

The commenter's second proposed alternative of temporary and voluntary certificate surrender to the FAA does not remedy the issue the rule is addressing. The purpose of the rule is to assist the FAA with efficient and effective service of documents to individuals abroad. An individual's temporary and voluntary certificate surrender for the time they are abroad would not assist the FAA with serving a document to the individual once they are outside the United States. For example, if an individual violates the Federal Aviation Regulations before going to live abroad for a year, the FAA may need to take enforcement action and serve the individual with a notice or order for that violation when they are abroad. This would be true regardless of whether the individual decides to put their certificate on hold with the FAA temporarily and voluntarily for the time they are abroad. Lastly, the FAA's regulations do not provide for temporary and voluntary certificate surrenders because to create a system to receive, temporarily store, and return an individual's physical certificates would be costly. The FAA, therefore, has not adopted the commenter's proposed alternative of temporary and voluntary certificate surrender to the FAA.

D. Miscellaneous Issues

1. Commenters Who Opposed the Rule Without Proposing Changes

Two commenters generally opposed the rule, without proposing any changes, which the FAA believes is based on a misunderstanding of current requirements or the rule, as proposed. Both commenters asserted that an individual with a U.S. address of record with the FAA does not have to designate a U.S. agent or be reachable at their U.S. address, and, therefore, questioned why an individual abroad, with no U.S. postal address, would need to establish more reliable postal communication with the FAA by designating a U.S. agent. The underlying assumption that certificate, rating, and authorization holders do not have to be reachable at their address of record with the FAA, whether in the U.S. or abroad, is incorrect. The FAA's responsibility of ensuring a safe National Airspace System requires that the agency be able to reach certificate, rating, and authorization holders.⁸ Individuals are expected to be reachable at their address of record on file with the FAA.

⁸ See U.S. Agents for Service on Individuals With Foreign Addresses Who Hold or Apply for Certain Certificates, Ratings, or Authorizations, Notice of Proposed Rulemaking, 88 FR 38002 (June 12, 2023). The FAA's service of process abroad can trigger international service requirements, which can create a serious risk to aviation safety. For example, when the FAA is serving emergency orders of revocation or suspension, the individual may attempt to continue exercising the associated privileges of the certificate, rating, or authorization, until the FAA serves the individual in accordance with international service requirements, which may take months and in some instances over a year.

However, the purpose of this rule is not to address the reliability of individuals' addresses, regardless of location. Rather, this rule is intended to provide the FAA with a means to provide timely and cost-effective service to individuals located abroad in light of international service requirements. The FAA can more effectively and efficiently send mail to a U.S. address than abroad due to international service requirements that are discussed in the NPRM.⁹ This distinction justifies the requirement of U.S. agents for individuals who have a foreign address of record on file with the FAA and no U.S. physical address of record on file with the FAA.

⁹ See 88 FR 38002. The two international service conventions applicable to the FAA's service of certain documents are the Hague Service Convention, 20 U.S.T. 361 (signed Nov. 15, 1965), and the Inter-American Convention on Letters Rogatory, adopted January 30, 1975, together with the Additional Protocol to the Convention (IACAP), adopted May 8, 1979, S. Treaty Doc. No. 98-27 (1986). The main method for service under either convention, is through a country's designated central authority, which is cumbersome, slow, and costly compared to service of process accomplished directly through registered mail on the intended recipient.

The FAA believes the second commenter also misunderstood the proposed rule as requiring individuals to designate a secondary U.S. agent in the event their primary U.S. agent is on vacation. The NPRM did not propose to require individuals to designate two U.S. agents. Rather, the NPRM explained the importance of ensuring reachability in the event a designated U.S. agent for service is temporarily unable to accept service and offered an example of a proposed solution that did not require the designation of a back-up U.S. agent. The NPRM provided that U.S. agents could have a friend or associate collect the mail and notify the individual of the service. Therefore, the FAA is not making any changes to the rule as a result of the comments.

2. Comments on the Privacy Impact Assessment and Civil Aircraft Registry Electronic Services Requirements

The FAA received three comments that asked about the public availability of the Privacy Impact Assessment (PIA), which was addressed by reopening the comment period when the PIA became publicly available on the Department of Transportation's website. Another comment, received after the comment period was reopened, stated that 15 days was not enough time to comment on the PIA. The FAA considered 15 days to be sufficient time to comment on the PIA. The document was publicly available since August 23, 2023, almost two months before the reopening of the comment period and is not a document that requires public comment under the Administrative Procedure Act.

Finally, three comments were about the Civil Aircraft Registry Electronic Services (CARES) requirements and availability of that system for U.S. agent designation. These comments are out of scope and premature because they did not specifically discuss the implementation of the NPRM, but rather were about the CARES system, which is not the system of collection for the U.S. agent information. The PIA simply identified CARES as one potential system FAA could use to collect U.S. agent information at some point in the future. The FAA has not made changes in the final rule based on these comments and recommends certificate holders and applicants reference Advisory Circular (AC) 3-1 ¹⁰ for further information on the information that the FAA will collect and how it will do so in accordance with this final rule.

¹⁰ AC 3-1 was published in concurrence with this final rule and can be found at drs.faa.gov/browse/AC/doctypeDetails.

3. Final Rule Compliance Dates

This final rule changes the compliance date noted in the NPRM, which was six months after the date of publication in the Federal Register to nine months after the date of publication in the Federal Register. The final rule clarifies there are two compliance dates. The compliance dates for this final rule are as follows: January 6, 2025, for applicants of any certificate, rating, or authorization issued under part 47, 61, 63, 65, 67, or 107, and July 7, 2025 for holders of any certificate, rating, or authorization issued under part 47, 61, 63, 65, 67, or 107. This additional time for current certificate, rating, or authorization holders is provided to ensure FAA preparedness for the collection of U.S. agent designations and to provide more time for individuals to come into compliance with the final rule.

4. FAA Guidance Materials: Advisory Circulars and Orders

The FAA is publishing an Advisory Circular, U.S. Agents for Service, with this final rule.¹¹ It specifies the acceptable form and manner for individuals to submit their designation of a U.S. agent. The following FAA Advisory Circulars will also be updated, as necessary, to reflect this final rule: AC 61-65H, AC 61-135A, AC 61-143, AC 65-30B, AC 65-23A, AC 65-32A and AC 65-34A. The FAA's Advisory Circulars are publicly available on FAA's website.¹²

¹¹ The FAA has placed a copy of these Advisory Circular in the docket for this rulemaking, with the exception of AC 65-32A which is also under revision as part of another rulemaking and will be published with that rule.

¹² FAA Advisory Circulars are available at: www.faa.gov/regulations_policies/advisory_circulars/.

V. Regulatory Notices and Analyses

Federal agencies consider impacts of regulatory actions under a variety of Executive orders and other requirements. First, Executive Order 12866 and Executive Order 13563, as amended by Executive Order 14094 (“Modernizing Regulatory Review”), direct that each Federal agency propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. Fourth, the Unfunded Mandates Reform Act of 1995 (Pub. L. 104-4) requires agencies to prepare a written assessment of the costs, benefits, and other effects of proposed or final rules that include a Federal mandate that may result in the expenditure by State, local, and tribal governments, in the aggregate, or by the private sector, of $100,000,000 or more (adjusted annually for inflation) in any one year. The current threshold after adjustment for inflation is $183,000,000, using the most current (2023) Implicit Price Deflator for the Gross Domestic Product. This portion of the preamble summarizes the FAA's analysis of the economic impacts of this rulemaking.

In conducting these analyses, the FAA has determined that this final rule: (i) will result in benefits that justify costs; (ii) is not an economically “significant regulatory action” as defined in section 3(f) of Executive Order 12866; (iii) will not have a significant economic impact on a substantial number of small entities as amended; (iv) will not create unnecessary obstacles to the foreign commerce of the United States; and (v) will not impose an unfunded mandate on State, local, or tribal governments, or on the private sector.

A. Regulatory Impact Analysis

On June 12, 2023, the FAA published a NPRM and received 14 comments. None of the comments expressed concerns with economic impacts of the proposal except one. One commenter expressed concern that the rule's cost to individual pilots would be between $15 million and $30 million annually, and also expressed concern about the cost of enacting the proposed regulatory change. However, the commenter does not provide an explanation for the cost estimate, therefore the FAA continues to use the estimate provided in the NPRM.

However, FAA has updated the cost of hiring a registered U.S. agent service company based on a more recent source. In the NPRM, FAA reported this cost could range from $150 to $300. The updated source reports this could be between $50 and $200.

1. Baseline for the Analysis

In July 2022, approximately 115,000 individuals applied for or held certificates, ratings, and authorizations issued under 14 CFR parts 47, 61, 63, 65, 67, and 107, had a foreign address, and did not have a U.S. physical address of record on file with the FAA. The FAA estimates that approximately 97 percent of these individuals that used a foreign address are citizens of foreign countries. The FAA notes service of process abroad imposes costs on the agency. The FAA estimates that it sends over 8,000 documents abroad annually, including both service of process and other documents, at a cost close to $600,000 including mailing costs, staff time, and translation services when required.¹³ Examples of documents that have been sent abroad are as follows:

¹³ The average cost to FAA per document served abroad is $75.

1. Aerospace Medicine's Letters: a. All Denial Letters, b. Withdrawal of Special Issuance (SI) Authorization Letters, c. Special Issuance Authorization Letters, d. Re-examination/Request for Information Letters, e. Lack of Qualification Letters with Referral to Legal, f. Letters of Investigation, and g. Federal Drug and Alcohol Testing Letters of Investigation,

2. Enforcement action documents: a. Notice of Proposed Civil Penalty (NOPCP), b. Final Notice of Civil Penalty (FNPOCP), c. Order Assessing Civil Penalty (OACP), d. Notice of Proposed Assessment (NOPA), e. Civil Penalty Letter, f. Notice of Proposed Certificate Action (NOPCA), g. Order of Suspension (OS), h. Order of Revocation (OR), i. Emergency Order of Revocation (EOR), and j. Emergency Order of Suspension (EOS),

3. Flight Standards Reexamination Letters,

4. All FAA Program Office's Letters of Investigation, and

5. Aircraft Registry Letters: a. Notices to Aircraft Owners of Ineffective Aircraft Registration, and b. Notices to Aircraft Owners of Invalid Aircraft Registration.

2. Benefits

The benefits of the final rule include prompt and cost-effective service of these documents to individuals abroad through service on their U.S. agents. Prompt service will conserve agency resources, ensure that lengthy delays in service do not compromise aviation safety, and provide individuals abroad timely notice of the FAA's actions. However, these benefits are not quantified because the ultimate impacts on aviation are not known.

3. Costs

Under this final rule, the affected individuals will bear the transaction costs associated with having a foreign address on file with the FAA. There is a minimal cost associated with designating a new U.S. agent and any updates thereafter. Individuals may designate an entity or an adult (18 or older) with a U.S. address to serve as their U.S. agent. The FAA determined that the cost of hiring a registered U.S. agent service company may range from $50 to $200 annually.¹⁴ However, as discussed in the NPRM, many individuals with foreign addresses may have a friend or family member residing in the U.S. whom they may choose to designate as their U.S. agent, resulting in no annual costs to those individuals for hiring a U.S. agent for service.

¹⁴ See www.chamberofcommerce.org/best-registered-agent-virginia (last accessed April 23, 2024).

The FAA will incur implementation costs to collect the U.S. agent information. However, the FAA anticipates developing an automated system that would not require agency staff processing time. The initial implementation costs will then be offset by saving the baseline foreign service process costs and avoiding the costs of translation services (required by contracting parties to the Hague Service Convention or IACAP).

4. Summary

In summary, the FAA expects that the benefits of prompt document service, which could affect aviation safety, will exceed any costs associated with implementing this rule. Costs associated with designating a U.S. agent for affected individuals abroad will be largely incurred by the individual who holds, or is applying for, the certificate, rating, or authorization, rather than the FAA. This final rule will eliminate a majority of the FAA's current costs of affecting international service and transfer some of these transaction costs back to the individual being served by requiring designation of a U.S. agent.

B. Regulatory Flexibility Act

The Regulatory Flexibility Act (RFA) of 1980, Public Law 96-354, 94 Stat. 1164 (5 U.S.C. 601-612), as amended by the Small Business Regulatory Enforcement Fairness Act of 1996 (Pub. L. 104-121, 110 Stat. 857, Mar. 29, 1996) and the Small Business Jobs Act of 2010 (Pub. L. 111-240, 124 Stat. 2504, Sept. 27, 2010), requires Federal agencies to consider the effects of the regulatory action on small business and other small entities and to minimize any significant economic impact. The term “small entities” comprises small businesses and not-for-profit organizations that are independently owned and operated and are not dominant in their fields, and governmental jurisdictions with populations of less than 50,000.

The FAA did not identify any small entities that would be affected by this rule because it concerns only individuals and not their employers or entities or businesses the individuals are associated with. The FAA did not receive any comments on the basis for this certification during the public comment period after the publication of the associated NPRM. Therefore, the FAA certifies that this rule will not have a significant economic impact on a substantial number of small entities. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has determined that this rule is not considered an unnecessary obstacle to trade.

C. Unfunded Mandates Assessment

The Unfunded Mandates Reform Act of 1995 (Pub. L. 104-4) requires agencies to prepare a written assessment of the costs, benefits, and other effects of proposed or final rules that include a Federal mandate that may result in the expenditure by State, local, and tribal governments, in the aggregate, or by the private sector, of $100 million or more (adjusted annually for inflation) in any one year. The current threshold after adjustment for inflation is $183 million using the most current (2023) Implicit Price Deflator for the Gross Domestic Product. The FAA determined that this final rule will not result in the expenditure of $187 million or more by State, local, or tribal governments or by the private sector, in the aggregate, or the private sector, in any one year.

D. Paperwork Reduction Act

The Paperwork Reduction Act of 1995 (44 U.S.C. 3507(d)) requires that the FAA consider the impact of paperwork and other information collection burdens imposed on the public. According to the 1995 amendments to the Paperwork Reduction Act (5 CFR 1320.8(b)(2)(vi)), an agency may not collect or sponsor the collection of information, nor may it impose an information collection requirement, unless it displays a currently valid Office of Management and Budget (OMB) control number.

This action contains the following new information collection requirements. As required by the Paperwork Reduction Act of 1995 (44 U.S.C. 3507(d)), the FAA has submitted the information collection to OMB for its review.

Summary: The FAA is requiring individuals who hold or apply for certificates, ratings, or authorizations issued under 14 CFR part 47, 61, 63, 65, 67, or 107 and who have a foreign address and no U.S. physical address of record on file with the FAA to designate a U.S. agent.

Use: The information collected and maintained in FAA databases is used to serve various documents to the designated U.S. agents of individuals with a foreign address.

Respondents: As of July 2022, there were 115,132 individuals who held certificates, ratings, or authorizations issued under 14 CFR part 47, 61, 63, 65, 67, or 107 with a foreign address and who did not have a U.S. physical address of record on file with the FAA. After the implementation of the rule in Year 1, the FAA expects that the number of new applicants who would be required to designate a U.S. agent would be 4,362 annually. In addition, the FAA estimates that annually approximately 4,606 respondents might process a change of U.S. agent designation or an update to their U.S. agents' contact information.

Frequency: All 115,132 individuals with a foreign address, with no U.S. physical address, who currently hold certificates, ratings, or authorizations issued under 14 CFR part 47, 61, 63, 65, 67, or 107 are required to designate a U.S. agent once during the implementation of the rule in Year 1. Similarly, 4,362 respondents identified as applicants who do not currently hold any certificates, ratings, or authorization, would be required to designate a U.S. agent at the time of their application in Year 2. Additionally, 4,606 respondents might need to change their U.S. agent or update the information for their current U.S. agent. This would require submission of a new U.S. agent designation.

Annual Burden Estimate: The FAA estimates that it would take an individual 10 minutes to submit a U.S. agent designation. In Year 1, the number of annual burden hours would be 19,189 [(115,132 individuals × (10 minutes ÷ 60 minutes)], and 1,495 hours each year afterwards (=[(4,362 + 4,606) × (10 minutes ÷ 60 minutes)]). The annual cost of this U.S. agent designation requirement to individuals would be $1,195,761 in Year 1 and $93,131 each year afterwards.¹⁵

¹⁵ Using a loaded composite wage rate of $62.32 obtained from a select of number of foreign countries and $10 a minute (=10/60 or 0.167 hour) estimated to submit a U.S. agent designation, the FAA calculates that these individuals would incur $1,195,761, (= 115,132 × $62/hour × 0.167 hour).

The collection of the U.S. agent designation will be fully automated. Therefore, there will be no new annual cost to the government.

E. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety and does not operate in a manner that excludes imports that meet this objective. The statute also requires consideration of international standards and, where appropriate, that they be the basis for U.S. standards. The FAA has assessed the potential effects of this rule and determined that it will not create unnecessary obstacles to the foreign commerce of the United States.

F. Environmental Analysis

FAA Order 1050.1F identifies FAA actions that are categorically excluded from preparation of an environmental assessment or environmental impact statement under the National Environmental Policy Act in the absence of extraordinary circumstances. The FAA has determined this rulemaking action qualifies for the categorical exclusion identified in paragraph 5-6.6f and involves no extraordinary circumstances.

VI. Executive Order Determinations

A. Executive Order 13132, Federalism

The FAA has analyzed this final rule under the principles and criteria of Executive Order (E.O.) 13132, Federalism. The FAA has determined that this action will not have a substantial direct effect on the states, or the relationship between the Federal Government and the States, or on the distribution of power and responsibilities among the various levels of government, and, therefore, will not have federalism implications.

B. Executive Order 13175, Consultation and Coordination With Indian Tribal Governments

Consistent with Executive Order 13175, Consultation and Coordination with Indian Tribal Governments,¹⁶ and FAA Order 1210.20, American Indian and Alaska Native Tribal Consultation Policy and Procedures,¹⁷ the FAA ensures that Federally Recognized Tribes (Tribes) are given the opportunity to provide meaningful and timely input regarding proposed Federal actions that have the potential to have substantial direct effects on one or more Indian tribes, on the relationship between the Federal Government and Indian tribes, or on the distribution of power and responsibilities between the Federal Government and Indian tribes; or to affect uniquely or significantly their respective tribes. At this point, the FAA has not identified any unique or significant effects, environmental or otherwise, to Indian tribes resulting from this final rule.

¹⁶ 65 FR 67249 (Nov. 6, 2000).

¹⁷ FAA Order No. 1210.20 (Jan. 28, 2004), available at www.faa.gov/documentLibrary/media/1210.pdf.

C. Executive Order 13211, Regulations That Significantly Affect Energy Supply, Distribution, or Use

The FAA analyzed this final rule under E.O. 13211, Actions Concerning Regulations that Significantly Affect Energy Supply, Distribution, or Use (May 18, 2001). The FAA has determined that it is not a “significant energy action” under the executive order and is not likely to have a significant adverse effect on the supply, distribution, or use of energy.

D. Executive Order 13609, Promoting International Regulatory Cooperation

Executive Order 13609, Promoting International Regulatory Cooperation, promotes international regulatory cooperation to meet shared challenges involving health, safety, labor, security, environmental, and other issues and to reduce, eliminate, or prevent unnecessary differences in regulatory requirements. The FAA has analyzed this action under the policies and agency responsibilities of Executive Order 13609, and has determined that this action will have no effect on international regulatory cooperation.

VII. Privacy

With regard to the information persons may submit in accordance with this final rule's requirements, the FAA conducted a privacy impact assessment (PIA) under section 522(a)(5) of division H of the FY 2005 Omnibus Appropriations Act, Public Law 108-447, 118 Stat. 3268 (Dec. 8, 2004) and section 208 of the E-Government Act of 2002, Public Law 107-347, 116 Stat. 2889 (Dec. 17, 2002). The PIA found the NPRM's proposed requirements affecting privacy include the collection of personally identifiable information (PII) of U.S. agents designated by individuals with a foreign address and no U.S. physical address on file with the FAA that hold or apply for certificates, ratings, or authorizations issued under 14 CFR part 47, 61, 63, 65, 67, or 107. The rule collects the U.S. agent's full name, U.S. address, fax number (optional), phone number (optional), and email address.

As part of the PIA, the FAA analyzed the effect the rule would have on collecting, storing, and disseminating personally identifiable information (PII) of U.S. agents designated by individuals with a foreign address and no U.S. physical address on file with the FAA that hold or apply for certificates, ratings, or authorizations issued under 14 CFR part 47, 61, 63, 65, 67, or 107. The FAA also examined and evaluated protections and alternative information-handling processes in developing the rule to mitigate potential privacy risks. A copy of PIA is posted on DOT's website.¹⁸

¹⁸ Upon finalization, PIAs are posted on the Department of Transportation's Privacy Program page, available at www.transportation.gov/individuals/privacy/privacy-impact-assessments#Federal%20Aviation%20Administration%20(FAA).

VIII. Additional Information

A. Electronic Access and Filing

A copy of the NPRM, all comments received, this final rule, the AC for designation of U.S. agents, and all background material may be viewed online at www.regulations.gov using the docket number listed above. A copy of this final rule will be placed in the docket. Electronic retrieval help and guidelines are available on the website. It is available 24 hours each day, 365 days each year. An electronic copy of this document may also be downloaded from the Office of the Federal Register's website at www.federalregister.gov and the Government Publishing Office's website at www.govinfo.gov. A copy may also be found at the FAA's Regulations and Policies website at www.faa.gov/regulations_policies.

Copies may also be obtained by sending a request to the Federal Aviation Administration, Office of Rulemaking, ARM-1, 800 Independence Avenue SW, Washington, DC 20591, or by calling (202) 267-9677. Commenters must identify the docket or notice number of this rulemaking.

All documents the FAA considered in developing this final rule, including economic analyses and technical reports, may be accessed in the electronic docket for this rulemaking.

B. Small Business Regulatory Enforcement Fairness Act

The Small Business Regulatory Enforcement Fairness Act (SBREFA) of 1996 requires the FAA to comply with small entity requests for information or advice about compliance with statutes and regulations within its jurisdiction. A small entity with questions regarding this document may contact its local FAA official, or the person listed under the FOR FURTHER INFORMATION CONTACT heading at the beginning of the preamble. To find out more about SBREFA on the internet, visit www.faa.gov/regulations_policies/rulemaking/sbre_act/.

List of Subjects in 14 CFR Part 3

Aircraft, Aviation safety, U.S. agent for service.

The Amendment

For reasons discussed in the preamble, the Federal Aviation Administration amends title 14, Code of Federal Regulations as follows:

PART 3—GENERAL REQUIREMENTS

1. Effective October 8, 2024, the authority citation for part 3 is revised to read as follows:

Authority: 49 U.S.C. 106(f), 106(g), 40113, 44701, 44704, 46111, and 46103.

2. Effective October 8, 2024, add subpart C to read as follows:

Subpart C—Designated U.S. Agents for Service

Sec.
3.301 Applicability.
3.302 Definitions.
3.303 Designation of a U.S. agent for service.

§ 3.301 Applicability.

This subpart applies to individuals who:

(a) Do not have a U.S. physical address of record on file with the FAA;

(b) Have a foreign address of record on file with the FAA; and

(c) Hold or apply for certificates, ratings, or authorizations under part 47, 61, 63, 65, 67, or 107 of this chapter.

§ 3.302 Definitions.

U.S. agent address is an address in the States of the United States, the District of Columbia, or any U.S. territory or possession. If the U.S. agent is an entity, the address must be the U.S. agent's office address. If the U.S. agent is an individual, the address must be the U.S. agent's usual place of residence or, if applicable, the individual's U.S. military office address. If the U.S. agent is serving as a U.S. agent in their official capacity with the military, the address may be a military office address. A U.S. agent address may not be a post office box, military post office box, or a mail drop box.

U.S. agent for service (U.S. agent) is an entity or an adult (individual who is 18 or older) with a U.S. address who a certificate, rating, or authorization holder or applicant designates to receive FAA service on their behalf.

U.S. physical address is an address in the States of the United States, the District of Columbia, or any U.S. territory or possession, but excludes post office boxes, military post office boxes, mail drop boxes, and commercial addresses that are not also residential addresses.

§ 3.303 Designation of a U.S. agent for service.

(a) Individuals must designate a U.S. agent for service within the U.S. in writing to the FAA in a form and manner prescribed by the Administrator. Individuals designating a U.S. agent must ensure that the U.S. agent understands the requirements for receiving FAA service on behalf of the individual and is competent to perform that responsibility.

(b) The designation must include the U.S. agent's full name, U.S. agent address, email address, and certification by the individual that the U.S. agent has accepted responsibility for receiving FAA service on behalf of the individual. It may also include the U.S. agent's fax number and phone number.

(c) Individuals must notify the FAA in a form and manner prescribed by the Administrator of any change to their U.S. agent designation or the U.S. agent's contact information within 30 days of the change.

(d) Individuals must comply with the requirements listed in this subpart no later than:

(1) July 7, 2025, for holders of any certificate, rating, or authorization issued under part 47, 61, 63, 65, 67, or 107. These individuals who fail to timely designate a U.S. agent for service and comply with the requirements under this subpart may not exercise the privileges of any certificate, rating, or authorization issued under part 47, 61, 63, 65, 67, or 107, and an individual aircraft owner's aircraft registration certificate will be considered ineffective; and

(2) January 6, 2025, for applicants of any certificate, rating, or authorization issued under part 47, 61, 63, 65, 67, or 107. An applicant who fails to designate a U.S. agent for service and comply with the requirements under this subpart shall not be issued a certificate, rating, or authorization under part 47, 61, 63, 65, 67, or 107.

3. Effective January 6, 2025, amend § 3.303 by revising paragraph (d) and adding paragraph (e) to read as follows:

§ 3.303 Designation of a U.S. agent for service.

* * * * *

(d) Individuals holding any certificate, rating, or authorization issued under part 47, 61, 63, 65, 67, or 107 must comply with the requirements listed in this subpart no later than July 7, 2025. These individuals who fail to timely designate a U.S. agent for service and comply with the requirements under this subpart may not exercise the privileges of any certificate, rating, or authorization issued under part 47, 61, 63, 65, 67, or 107, and an individual aircraft owner's aircraft registration certificate will be considered ineffective.

(e) No individual shall be issued a certificate, rating, or authorization under parts 47, 61, 63, 65, 67, or 107 of this chapter unless the individual has designated a U.S. agent as required under this subpart.

4. Effective July 7, 2025, amend § 3.303 by revising paragraph (d) to read as follows:

§ 3.303 Designation of a U.S. agent for service.

* * * * *

(d) No individual shall exercise the privileges of any certificate, rating, or authorization issued under part 47, 61, 63, 65, 67, or 107 of this chapter unless the individual has designated a U.S. agent as required under this subpart. Aircraft registration certificates issued to individuals who fail to designate a U.S. agent as required under this subpart will be ineffective.

* * * * *

Issued under authority provided by 49 U.S.C. 106(f), 44701(a), and 44703 in Washington, DC.

Michael Gordon Whitaker,
Administrator.

[FR Doc. 2024-22000 Filed 10-7-24; 8:45 am]

BILLING CODE 4910-13-P